DEPARTMENT OF HEALTH AND HUMAN SERVICES

Substance Abuse and Mental Health Services Administration

Center for Substance Abuse Treatment; Notice of Meeting

Pursuant to Public Law 92-463, notice is hereby given that the Substance Abuse and Mental Health Services Administration's (SAMHSA) Center for Substance Abuse Treatment (CSAT) National Advisory Council (NAC) will meet on March 26, 2020, 1:00 p.m.-5:00 p.m. (EDT).

The meeting is open to the public and will include consideration of the minutes from the SAMHSA CSAT NAC meeting of August 21, 2019; budget update; DATA wavier update; State Opioid Response update; Substance Abuse Prevention and Treatment Block Grant update; discretionary portfolio update; discussion on Tip 63; and a discussion on Technology Transfer Centers Program Peer Support.

The meeting will be held via WebEx and telephone only, and not in person. Interested persons may present data, information, or views, orally or in writing, on issues pending before the Council. Written submissions should be forwarded to the contact person on or before March 20, 2020. Oral presentations from the public will be scheduled at the conclusion of the meeting. Individuals interested in making oral presentations must notify the contact person on or before March 20, 2020. Up to five minutes may be allotted for each presentation.

Registration is required to participate during this meeting. To attend virtually, or to obtain the call-in number and access code, submit written or brief oral comments, or request special accommodations for persons with disabilities, please register on-line at http://snacregister.samhsa.gov/MeetingList.aspx, or communicate with the CSAT National Advisory Council Designated Federal Officer; Tracy Goss (see contact information below).

Meeting information and a roster of Council members may be obtained by accessing the SAMHSA Committee website at http://www.samhsa.gov/about-us/advisory-councils/csat-national-advisory-council or by contacting the CSAT National Advisory Council Designated Federal Officer; Tracy Goss (see contact information below).

Council Name: SAMHSA's Center for Substance Abuse Treatment National Advisory Council.

Date/Time/Type: March 26, 2020, 1:00 p.m.-5:00 p.m. EDT, Open.

Place: SAMHSA, 5600 Fishers Lane, Rockville, Maryland 20857.

Contact: Tracy Goss, Designated Federal Officer, CSAT National Advisory Council, 5600 Fishers Lane, Rockville, Maryland 20857 (mail). Telephone: (240) 276-0759.

Fax: (240) 276-2252.

Email: tracy.goss@samhsa.hhs.gov.

Dated: 25 February 2020.
Carlos Castillo,
Committee Management Officer, SAMHSA.

[FR Doc. 2020-04138 Filed 2-27-20; 8:45 am]

BILLING CODE 4162-20-P